Title 3—

The President

Proclamation 8700 of August 31, 2011

National Preparedness Month, 2011

By the President of the United States of America

A Proclamation

Whenever our Nation has been challenged, the American people have responded with faith, courage, and strength. This year, natural disasters have tested our response ability across all levels of government. Our thoughts and prayers are with those whose lives have been impacted by recent storms, and we will continue to stand with them in their time of need. This September also marks the 10th anniversary of the tragic events of September 11, 2001, which united our country both in our shared grief and in our determination to prevent future generations from experiencing similar devastation. Our Nation has weathered many hardships, but we have always pulled together as one Nation to help our neighbors prepare for, respond to, and recover from these extraordinary challenges.

In April of this year, a devastating series of tornadoes challenged our resilience and tested our resolve. In the weeks that followed, people from all walks of life throughout the Midwest and the South joined together to help affected towns recover and rebuild. In Joplin, Missouri, pickup trucks became ambulances, doors served as stretchers, and a university transformed itself into a hospital. Local businesses contributed by using trucks to ship donations, or by rushing food to those in need. Disability community leaders worked side-by-side with emergency managers to ensure that survivors with disabilities were fully included in relief and recovery efforts. These stories reveal what we can accomplish through readiness and collaboration, and underscore that in America, no problem is too hard and no challenge is too great.

Preparedness is a shared responsibility, and my Administration is dedicated to implementing a “whole community” approach to disaster response. This requires collaboration at all levels of government, and with America’s private and nonprofit sectors. Individuals also play a vital role in securing our country. The National Preparedness Month Coalition gives everyone the chance to join together and share information across the United States. Americans can also support volunteer programs through www.Serve.gov, or find tools to prepare for any emergency by visiting the Federal Emergency Management Agency’s Ready Campaign website at www.Ready.gov or www.Listo.gov.

In the last few days, we have been tested once again by Hurricane Irene. While affected communities in many States rebuild, we remember that preparedness is essential. Although we cannot always know when and where a disaster will hit, we can ensure we are ready to respond. Together, we can equip our families and communities to be resilient through times of hardship and to respond to adversity in the same way America always has—by picking ourselves up and continuing the task of keeping our country strong and safe.

NOW, THEREFORE, I, BARACK OBAMA, President of the United States of America, by virtue of the authority vested in me by the Constitution and the laws of the United States, do hereby proclaim September 2011 as National Preparedness Month. I encourage all Americans to recognize the importance of preparedness and observe this month by working together to enhance our national security, resilience, and readiness.

IN WITNESS WHEREOF, I have hereunto set my hand this thirty-first day of August, in the year of our Lord two thousand eleven, and of the Independence of the United States of America the two hundred and thirty-sixth.

[FR Doc. 2011-22768

Filed 9-1-11; 11:15 am]

Billing code 3195-W1-P